DEPARTMENT OF VETERANS AFFAIRS

[OMB Control No. 2900-0004]

Agency Information Collection Activity Under OMB Review: Application for Dependency and Indemnity Compensation, Survivors Pension and Accrued Benefits by a Surviving Spouse or Child (Including Death Compensation if Available); Application for Dependency and Indemnity Compensation by a Surviving Spouse or Child—In-Service Death Only; and Application for DIC, Survivors Pension, and/or Accrued Benefits

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent by August 25, 2025.

ADDRESSES: To submit comments and recommendations for the proposed information collection, please type the following link into your browser: www.reginfo.gov/public/do/PRAMain, select “Currently under Review—Open for Public Comments”, then search the list for the information collection by Title or “OMB Control No. 2900-0004.”

FOR FURTHER INFORMATION CONTACT: VA PRA information: Dorothy Glasgow, 202-461-1084, VAPRA@va.gov.

SUPPLEMENTARY INFORMATION:

Title: The 21P-534, Application for Dependency and Indemnity Compensation, Survivors Pension and Accrued Benefits by a Surviving Spouse or Child (Including Death Compensation if Available). The 21P-534a, Application for Dependency and Indemnity Compensation by a Surviving Spouse or Child—In-Service Death Only. The 21P-534EZ, Application for DIC, Survivors Pension, and/or Accrued Benefits.

OMB Control Number: 2900-0004 https://www.reginfo.gov/public/do/PRASearch.

Type of Review: Revision of a currently approved collection.

Abstract: The VA Form 21P-534 is used to gather the necessary information to determine the eligibility of surviving spouses and children for dependency and indemnity compensation (DIC), death pension, accrued benefits, and death compensation. VA Form 21P-534a is an abbreviated application for DIC that is used only by surviving spouses and children of veterans who died while on active duty service. The VA Form 21P-534EZ is used for the Fully Developed Claims (FDC) program for pension claims, DIC and accrued claims. The 21P-534EZ (Application for DIC, Survivors Pension, and/or Accrued Benefits) within this collection is a revision. The 21P-534 (Application for Dependency and Indemnity Compensation, Survivors Pension and Accrued Benefits by a Surviving Spouse or Child (Including Death Compensation if Applicable)) within this collection is being discontinued, the discontinuance will have no negative impact on the collection. The 21P-534a, Application for Dependency and Indemnity Compensation by a Surviving Spouse or Child—In-Service Death Only) within this collection will remain the same. The respondent burden has decreased due to the discontinuance of the 21P-534 from this collection.

An agency may not conduct or sponsor, and a person is not required to respond to a collection of information unless it displays a currently valid OMB control number. The Federal Register Notice with a 60-day comment period soliciting comments on this collection of information was published at: 90 FR 21549, May 20, 2025.

Affected Public: Individuals or Households.

Estimated Annual Burden: 111,000 hours.

Estimated Average Burden per Respondent: 43 minutes.

Frequency of Response: One time.

Estimated Number of Respondents: 51,800.

Authority: 44 U.S.C. 3501 et seq.

Dorothy Glasgow,
Acting, VA PRA Clearance Officer, Office of Enterprise and Integration, Data Governance Analytics, Department of Veterans Affairs.

[FR Doc. 2025-13993 Filed 7-23-25; 8:45 am]

BILLING CODE 8320-01-P